NATIONAL AERONAUTICS AND SPACE ADMINISTRATION

[Notice (06-035)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATE: May 30, 2006.

FOR FURTHER INFORMATION CONTACT: Linda B. Blackburn, Patent Counsel, Langley Research Center, Mail Code 141, Hampton, VA 23681-2199; telephone (757) 864-9260; fax (757) 864-9190.

NASA Case No. LAR-17116-1: System And Method For Wirelessly Determining Fluid Volume;

NASA Case No. LAR-17032-1: Active Multistable Twisting Device;

NASA Case No. LAR-17013-1: Thermally Driven Piston Assembly And Position Control Therefor;

NASA Case No. LAR-16872-1: Graded Index Silicon Geranium On Lattice Matched Silicon Geranium Semiconductive Alloy.

Dated: May 23, 2006.
Keith T. Sefton,
Deputy General Counsel, Administration and Management.

[FR Doc. E6-8269 Filed 5-26-06; 8:45 am]

BILLING CODE 7510-13-P